FEDERAL COMMUNICATIONS COMMISSION

47 CFR Part 54

[WC Docket Nos. 17-287, 11-42 and 09-197; FRS 16517]

Petitions for Reconsideration of Action in Rulemaking Proceeding

AGENCY: Federal Communications Commission.

ACTION: Petitions for Reconsideration; correction.

SUMMARY: The Federal Communications Commission (Commission) published a document in the Federal Register of February 14, 2020, regarding Petitions for Reconsideration filed in the Commission's rulemaking proceeding. The document contained the incorrect deadline for filing replies to an opposition to the Petitions. This document corrects the deadline for replies to an opposition to the Petitions.

DATES: The proposed rule published on February 14, 2020, at 85 FR 8533, is corrected as of February 25, 2020.

ADDRESSES: Federal Communications Commission, 445 12th Street SW, Washington, DC 20554.

FOR FURTHER INFORMATION CONTACT: Nicholas Page, Attorney Advisor, Wireline Competition Bureau, Telecommunications Access Policy Division, (202) 418-2783.

SUPPLEMENTARY INFORMATION:

Correction

In the Federal Register of February 14, 2020, in FR Doc. 2020-02926, on page 8533, in the third column, correct the DATES section to read:

DATES: Oppositions to the Petitions must be filed on or before March 2, 2020. Replies to an opposition must be filed on or before March 12, 2020.

Federal Communications Commission.
Marlene Dortch,
Secretary, Office of the Secretary.

[FR Doc. 2020-03709 Filed 2-24-20; 8:45 am]

BILLING CODE 6712-01-P